FEDERAL COMMUNICATIONS COMMISSION

47 CFR Part 76

[MB Docket No. 12-68; DA 12-1871]

Revision of the Commission's Program Access Rules

AGENCY: Federal Communications Commission.

ACTION: Proposed rule; extension of comment and reply comment period.

SUMMARY: The Media Bureau extends the deadline for filing comments and reply comments on the Further Notice of Proposed Rulemaking (“FNPRM”) in this proceeding which was published in the Federal Register on October 31, 2012. The extension will provide commenters with sufficient time to prepare comments and reply comments in response to the FNPRM.

DATES: The comment and reply comment period for the proposed rule published October 31, 2012 (77 FR 66052) is extended. Submit comments on or before December 14, 2012 and reply comments on or before January 14, 2013.

ADDRESSES: You may submit comments, identified by MB Docket No. 12-68, by any of the following methods:

• Federal Communications Commission's Web site: http://www.fcc.gov/cgb/ecfs/. Follow the instructions for submitting comments.

• Mail: Filings can be sent by hand or messenger delivery, by commercial overnight courier, or by first-class or overnight U.S. Postal Service mail (although the Commission continues to experience delays in receiving U.S. Postal Service mail). All filings must be addressed to the Commission's Secretary, Office of the Secretary, Federal Communications Commission.

• People with Disabilities: Contact the FCC to request reasonable accommodations (accessible format documents, sign language interpreters, CART, etc.) by email: FCC504@fcc.gov or phone: (202) 418-0530 or TTY: (202) 418-0432.

FOR FURTHER INFORMATION CONTACT: For additional information on this proceeding, contact David Konczal, David.Konczal@fcc.gov, or Kathy Berthot, Kathy.Berthot@fcc.gov, of the Media Bureau, Policy Division, (202) 418-2120.

SUPPLEMENTARY INFORMATION: This is a summary of the Order in MB Docket No. 12-68, DA 12-1871, adopted and released on November 19, 2012, which extends the comment and reply comment deadlines established in the FNPRM published under FCC No. 12-123 at 77 FR 66052, October 31, 2012. The full text of this document is available for public inspection and copying during normal business hours in the FCC Reference Center, Portals II, 445 12th Street SW., Room CY-A257, Washington, DC 20554. The complete text may also be purchased from the Commission's copy contractor, Best Copy and Printing, Inc., 445 12th Street SW., Room CY-B402, Washington, DC 20554. The full text may also be downloaded at: http://www.fcc.gov. Alternative formats are available to persons with disabilities by sending an email to FCC504@fcc.gov or by calling the Consumer & Governmental Affairs Bureau at (202) 418-0530 (voice), 202-418-0432 (TTY).

Summary of the Order

1. On October 5, 2012, the Commission released a Further Notice of Proposed Rulemaking (“FNPRM”) on revisions to the program access rules. The FNPRM set deadlines for filing comments and reply comments at 30 and 45 days, respectively, after publication of the FNPRM in the Federal Register. A summary of the FNPRM was published in the Federal Register on October 31, 2012 (77 FR 66052). Accordingly, the filing dates were initially established as November 30, 2012 for comments and December 17, 2012 for reply comments.

2. On November 14, 2012, the National Cable & Telecommunications Association (“NCTA”) filed a request to extend the comment and reply comment deadlines to December 14, 2012 and January 14, 2013, respectively. NCTA states that Hurricane Sandy has disrupted business operations along the northeast corridor, thereby hindering the ability of some of its members to gather information and prepare comments for this proceeding. Accordingly, NCTA requests a two-week extension of the comment deadline to December 14, 2012. Because an identical two-week extension of the reply comment deadline would require reply comments to be filed during the last week of December in the middle of the holiday season, NCTA requests a four-week extension of the reply comment deadline. We grant the requested extension. As set forth in Section 1.46 of the Commission's rules, the Commission's policy is that extensions of time for filing comments in rulemaking proceedings shall not be routinely granted. In this case, however, an extension of the comment periods is warranted to provide commenters with sufficient time to prepare comments and reply comments in response to the FNPRM.

3. Accordingly, it is ordered that, pursuant to section 4(i) of the Communications Act of 1934, as amended, 47 U.S.C. 154(i), and §§ 0.61, 0.283, and 1.46 of the Commission's rules, 47 CFR 0.61, 0.283, and 1.46, the Motion for Extension of Time filed by NCTA is granted, and the deadlines to file comments and reply comments in this proceeding are extended to December 14, 2012 and January 14, 2013, respectively.

Federal Communications Commission.
Steven A. Broeckaert,
Senior Deputy Chief, Policy Division, Media Bureau.

[FR Doc. 2012-29426 Filed 12-4-12; 8:45 am]

BILLING CODE 6712-01-P